CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning the proposed renewal and revision of its AmeriCorps*VISTA Project Progress Report (OMB Control Number 3045-0043). The previously approved Progress Report will expire on October 1, 2008.

This reinstatement with changes reflects the Corporation's intent to modify selected sections of the collection instrument to reduce the burden on respondents and to reflect changes in data considered “core reporting” information to meet a variety of needs, including adding new data elements as needed to ensure information collection captures appropriate data for the Corporation's required performance measurement and other reporting.

Copies of the information collection request can be obtained by contacting the office listed in the addresses section of this notice.

DATES: Written comments must be submitted to the individual and office listed in the ADDRESSES section by May 5, 2008.

ADDRESSES: You may submit comments, identified by the title of the information collection activity, by any of the following methods:

(1) By mail sent to: Corporation for National and Community Service; Attn, Craig Kinnear, Program Analyst, Room 9103A; 1201 New York Avenue, NW., Washington DC, 20525.

(2) By hand delivery or by courier to the Corporation's mailroom at Room 8100 at the mail address given in paragraph (1) above, between 9 a.m. and 4 p.m. Monday through Friday, except Federal holidays.

(3) By fax to: (202) 565-2789, Attention Craig Kinnear, Program Analyst.

4) Electronically through the Corporation's e-mail address system: ckinnear@cns.gov.

FOR FURTHER INFORMATION CONTACT: Craig Kinnear, (202) 606-6708, or by e-mail at ckinnear@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Progress Report (PPR) was designed to assure that Americorps*VISTA sponsors address and fulfill legislated program purposes, meet agency program management and grant requirements, and assess progress toward project plan goals agreed upon in the signing of the Memorandum of Agreement.

Current Action

The Corporation seeks to revise the previously used PPR to: (a) Reduce respondent burden; (b) enhance data collected via this information collection tool; (c) establish reporting periods consistent with the Corporation's integrated grants management and reporting policies.

The current PPR is used by Americorps*VISTA sponsors and grantees to report progress toward accomplishing work plan goals and objectives, reporting actual outcomes related to self-nominated performance measures meeting challenges encountered, describing significant activities, and requesting technical assistance. The PPR is also used to collect demographic data elements used by the Corporation for aggregate reporting purposes. Submissions of the PPR are done quarterly.

The revised PPR will be divided into two separate parts in order to reduce burden and to increase data integrity. All demographic data elements will be removed from the quarterly submissions and added to an annual VISTA Progress Report Supplement (VPRS) due 30 days after the end of the fiscal year. The quarterly reports will retain their purpose of providing monitoring and oversight of individual projects, while the annual data collection will serve the purpose of aggregate performance reporting for the VISTA program. Burden will be reduced by collecting the demographic data elements once a year instead of quarterly. Data integrity will be increased by tying data elements to specific fiscal years rather than project reporting cycles.

The Corporation anticipates making available to all AmeriCorps*VISTA sponsors and grantees both sections of the revised PPR by July 1, 2008.

Type of Review: Renewal.

Agency: Corporation for National and Community Service.

Title: Americorps*VISTA Program Progress Report (PPR).

OMB Number: 3045-0043.

Agency Number: None.

Affected Public: AmeriCorps*VISTA and sponsoring organizations, site supervisors, and members.

Total Respondents: 1,100.

Frequency: Quarterly for the PPR; annually for the VPRS.

Average Time Per Response: 7 hours for the PPR; 9 hours for the VPRS.

Estimated Total Burden Hours: 40,700 hours for both the PPR and VPRS.

Total Burden Cost (capital/startup): None.

Total Burden Cost (operating/maintenance): None.

Comments submitted in response to this notice will be summarized and/or included in the request for Office of Management and Budget approval of the information collection request; they will also become a matter of public record.

Dated: February 27, 2008.
Carol Rogers,
Acting Director, Americorps*VISTA.

[FR Doc. E8-4133 Filed 3-3-08; 8:45 am]

BILLING CODE 6050-$$-P